DEPARTMENT OF HOMELAND SECURITY

Coast Guard

33 CFR Part 165

[CGD11-03-001]

RIN 1625-AA11

Regulated Navigation Areas (RNAs), San Francisco Bay, CA

AGENCY: Coast Guard, DHS.

ACTION: Notice of proposed rulemaking.

SUMMARY: The Coast Guard is proposing to revise the regulated navigation areas (RNA) at: The Benicia-Martinez Railroad Drawbridge (BMRD) at the entrance to Suisun Bay; the Pinole Shoal Channel RNA; the southern boundary of the Southampton Shoal/Richmond Harbor RNA; and the portion of the Oakland Harbor RNA that lies just due north of Anchorage 8. The revisions will clarify and expand the boundaries of the BMRD RNA; restrict vessels less than 1600 gross tons from entering the Pinole Shoal Channel RNA; expand the boundary for the Southampton Shoal/Richmond Harbor RNA; and designate new boundary lines for the Oakland Harbor RNA to coincide with the new Anchorage 8 boundaries. These revisions will clarify the procedures for vessels intending to transit which are either moored or in transit bound for the BMRD; allow towing vessels with tow of 1600 or more gross tons to utilize the Pinole Shoal Channel; further reduce the risk of groundings and collisions by expanding the RNA in the Southampton Shoal to encompass the federally maintained waterway; and correct the coordinates for the northern boundary of the Oakland Harbor RNA that is inaccurately listed in the current RNA regulation.

DATES: Comments and related material must reach the Coast Guard on or before November 17, 2003.

ADDRESSES: You may mail comments and related material to Commanding Officer, District Eleven Marine Safety Division, Waterways Management Section, Coast Guard Island, Building 51-1, Alameda, CA, 94501-5100, Attn: LTJG Michael Boyes. District Eleven Marine Safety Division, Waterways Management Section maintains the public docket for these rulemakings. Comments and material received from the public, as well as documents indicated in this preamble as being available in the docket, will become part of this docket and will be available for inspection or copying at District Eleven Marine Safety Division, Waterways Management Section, Coast Guard Island, Building 51-1, Alameda, CA, 94501-5100, between 8 a.m. and 4 p.m., Monday through Friday, except Federal holidays.

FOR FURTHER INFORMATION CONTACT: LTJG Michael Boyes, District Eleven Marine Safety Division, Waterways Management Section, at (510) 437-2940.

SUPPLEMENTARY INFORMATION:

Request for Comments

We encourage you to participate in this rulemaking by submitting comments and related material. If you do so, please include your name and address, identify the docket number for this rulemaking [CGD11-03-001], indicate the specific section of this document to which each comment applies, and give the reason for each comment. Please submit all comments and related material in an unbound format, no larger than 8½ by 11 inches, suitable for copying. If you would like to know your submission reached us, please enclose a stamped, self-addressed postcard or envelope. We will consider all comments and material received during the comment period. We may change this proposed rule in view of them.

Public Meeting

We do not plan to hold a public meeting for this rule. But you may submit a request for a meeting in writing to District Eleven Marine Safety Division, Waterways Management Section at the address under ADDRESSES explaining why one would be beneficial. If we determine that one would aid this rulemaking, we will hold one at a time and place announced by a separate notice in the Federal Register.

Background and Purpose

Benicia-Martinez Railroad Drawbridge regulated navigation area (RNA): The purpose is to revise the RNA at the Benicia-Martinez Railroad Drawbridge at the entrance to Suisun Bay. The revision would refer to the bridge that is the focus of the RNA in terms of geographic locality to remove any reference to corporate naming methods. The revision would convert the distance measurement from 1000 yards to ½ nautical mile. Lastly, the revision would clarify and expand the boundaries of the RNA and clarify the procedures for vessels intending to transit through the Benicia-Martinez Railroad Drawbridge that are either moored or anchored within the boundaries of the proposed revised RNA.

Pinole Shoal Channel RNA: Revision of this regulation would update the current Pinole Shoal Channel RNA that currently restricts vessels drawing a draft less than 20 feet from operating within the channel. Instead of the draft requirement, the new regulations would restrict vessels less than 1600 gross tons from entering the Pinole Shoal Channel RNA. This change will allow vessels of 1600 gross tons or a tug with a tow of 1600 gross tons that may not necessarily draw 20 feet of draft to utilize the marked channel. The RNA will continue to benefit vessels based on their maneuverability and keep smaller vessels out of the channel.

Southampton/Richmond Harbor RNA: In 1995, the Coast Guard established several RNA's in the San Francisco Bay, including the Southampton Shoal Channel/Richmond Harbor RNA, under 33 CFR 165.1114. In 2001, this section was redesignated as section 165.1181. The RNA encompasses Southampton Shoal Channel, the Richmond Long Wharf Maneuvering Area, the Richmond Harbor Entrance Channel and Point Potrero Reach. These are dredged channels and areas within which maneuvering room is severely limited. Close-quarters situations between deep draft vessels in these channels were eliminated with the implementation of the RNA, reducing the risk of grounding and collisions.

In October 1999 a major Bay Area shipping company participated in a week of simulation exercises to test the feasibility of bringing in new, double hull, very large crude carriers (VLCCs) into the Richmond Long Wharf. The class of vessel tested was a 306,000 dead weight tons (DWT) tank vessel.

Part of the study was to see what, if any, improvements would be needed, including channel widening, dredging, berth improvements, and aids to navigation. Using large scale Army Corps of Engineers survey charts it was determined that the buoys, as previously positioned, did not accurately indicate the federally maintained channel. Buoy #1 was located 175 feet outside the channel, Buoy #2 was right on the channel line, Buoy #4 was 150 feet outside the channel, and Buoy #5 was 275 feet outside the channel. Also, the distances between North Channel Buoy #8 and Southampton Shoal Channel Buoys #1 and #2 were considerable. Vessels approaching Southampton Shoal Channel from the south are subject to a cross current that is sometimes difficult to detect right away due to the distance between navigational aids. Inbound deep draft vessels have to proceed at a relatively slow speed through this area, allowing greater influence by the current. A closer spacing between navigational aids would allow quicker detection of current set and a better delineation of the dredged channel.

In order to enhance navigation safety, it was proposed to change the buoys in Southampton Shoal Channel. Buoys #1 and #2 have been moved to the bottom corner of Anchorage #5. A new set of buoys has been added halfway to the top of the channel. Buoy #5 has been moved down to be adjacent to Buoy #4 (re-numbered as #6). The green Buoy #1 off Red Rock has been moved to the top corner of the turning basin (and has been renumbered #7). All buoys have been located 50 feet outside the channel limit to facilitate dredging and allow full use of the entire channel width. The line of green buoys helps delineate the shallow water to the west of the channel and approaches.

The federally maintained channel used to extend almost all the way to North Channel Buoy A and did not stop at Southampton Shoal Buoys #1 and #2. The water on both sides of the channel continues to shoal, so clear delineation of the entire length of the channel is critical for deep draft vessels. Waterways Analysis and Management Study number 11-00-020 was started on January 27, 2000. The San Francisco Bar Pilots notified the Coast Guard and NOAA that Southampton Shoal Channel is dredged by the ACOE to North Channel Lighted Buoy A (LLNR-5410). At the time of the study, the channel was only marked to lighted buoy 1 (LLNR-5640). To properly mark the federally maintained waterway the Coast Guard proposed to move 5 buoys and add two additional buoys. There is shoaling on both sides of the channel, and a clear delineation of the entire length of the channel was necessary for deep draft vessels. The Waterways Analysis and Management Study concluded on April 20, 2000.

The proposed Southampton Shoal/Richmond Harbor RNA would increase navigational safety by organizing traffic flow patterns; reducing meeting, crossing, and overtaking situations between large vessels in constricted channels; and limiting vessel speed.

Oakland Harbor RNA: On June 26, 2001 we published a Final Rule in the Federal Register (66 FR 33833) on the changes of Anchorage 8, which in turn requires a change to the Oakland Harbor RNA. Over time, demands of waterway usage in the San Francisco Bay have led to the need for increases in anchorage area. Anchorage 8 was one of the anchorages recently requested by the mariners to be modified to make better use of available water. Such a change has resulted in Anchorage 8 area protruding into the nearby Oakland Harbor RNA, necessitating an adjustment to the boundary designation of the RNA. No comments were received on the Anchorage 8 regulation change. Additionally, the reduction in the RNA is not expected to result in any adverse effect to waterway users.

The northern boundary coordinates in the regulation for the Oakland Harbor RNA was recently discovered to be off by approximately 30 to 200 yards from the intended coordinates. This rulemaking would revise the points listed in the RNA regulation, accurately reflecting the alignment of the northern boundary of the Oakland Harbor RNA with the Bar Channel and what has already been charted by NOAA.

Discussion of Proposed Rule

Benicia-Martinez Railroad Drawbridge RNA: The 1996 merger of the Union Pacific and Southern Pacific Railroad companies resulted in a change to the name of the bridge to the Union Pacific Railroad Bridge. Using a company name to identify a significant navigational reference point can lead to naming confusion in the future if the bridge changes ownership again. It was decided to refer to the bridge in terms of geographic locality in order to eliminate any references to corporate ownership and only use standard geographical naming schemes. The reference name Benicia-Martinez Railroad Drawbridge is not intended to replace the new bridge name (Union Pacific Railroad Bridge) selected by the current bridge owner Union Pacific Railroad for any purpose other than this RNA. As with any bridge owner, Union Pacific Railroad retains the right to name the bridge. Our name reference is only intended for this proposed regulation to update the wording to include the most accepted and understood name for waterway users and bridge tenders.

Procedures for down-bound vessels commencing their transit from moorings at terminals between the Benicia-Martinez Railroad Drawbridge and New York Point or for vessels anchored between the Benicia-Martinez Railroad Drawbridge and New York Point are not defined in the existing regulation, and some mariners have expressed confusion regarding the procedures to be followed by such vessels. This change will add procedures for these vessels and formally adopt an ad-hoc solution that has been used since the regulation was established.

While the proposed rule expands the geographical boundaries of the RNA, it does not expand the regulatory scope of the rule. The original rule specified the actions of vessels well outside the original boundaries of the printed RNA regulation. The new rule simply expands the boundaries of the RNA to coincide with the geographic area addressed by the original regulation.

Pinole Shoal Channel RNA: The revision would keep smaller vessels (less than 1600 gross tons) out of the Pinole Shoal Channel so that larger vessel (equal or greater than 1600 gross tons) could transit the channel unimpeded. There is currently enough deep water just south of the channel for a vessel of 15 to 19 feet to transit safely south of the channel. However, vessels with drafts close to 20 feet prefer transiting in the marked channel for an enhanced safety factor during the transit. This draft applies to both tugs towing barges greater than 1600 GT and piloted ships over 1600 GT. VTS San Francisco has encountered requests from pilots aboard vessels with less than 20 feet draft to use the channel. Stakeholders such as VTS San Francisco and the San Francisco Bar Pilots agree that vessels greater than 1600 gross tons or with a tug with a tow of 1600 gross tons should have the option to use the Pinole Shoal Channel RNA regardless of their draft. Other similar RNA's regard vessels gross tonnage as a more logical safety criterion than draft.

Southampton/Richmond Harbor RNA: Based on the results of a Waterways Analysis and Management Study of the Southampton Shoal Channel, the Coast Guard relocated Southampton Shoal Channel Lighted Buoys 1 through 7 to properly mark the federally maintained waterway. This extended the marked channel beyond the southern limits of the RNA. We propose to extend the RNA so that it encompasses the federally maintained waterway.

Oakland Harbor RNA: This proposed rule would incorporate an administrative change to revise the boundary line of the affected Oakland Harbor RNA to coincide with the new boundaries of Anchorage 8. While Anchorage 8 increased in size by approximately 2,300 square feet to the northwest, the Oakland Harbor RNA lying just north of this anchorage decreased in size by the same amount. This proposed rule would correct the mis-printed coordinates in the current RNA regulation for the northern boundary of the Oakland Harbor RNA. The corrected coordinates will reflect what NOAA has already charted. The regulations that apply to vessels within this RNA will still remain the same.

Regulatory Evaluation

This proposed rule is not a “significant regulatory action” under section 3(f) of Executive Order 12866, Regulatory Planning and Review, and does not require an assessment of potential costs and benefits under section 6 (a)(3) of that Order. The Office of Management and Budget has not reviewed it under that Order. It is not “significant” under the regulatory policies and procedures of the Department of Homeland Security (DHS).

We expect the economic impact of this proposed rule to be so minimal that a full Regulatory Evaluation under paragraph 10(e) of the regulatory policies and procedures of DOT is unnecessary. The proposed rule changes for the Benicia-Martinez Railroad Drawbridge are primarily a naming reference change and boundary modifications. The proposed minimum visibility requirements and clarification of vessel procedures for vessels transiting the area are intended to be implemented in conjunction with already accepted standards for vessel reporting as utilized by local pilot associations and bridge operators. These rules for visibility and reporting are designed to have minimal regulatory impact on how deep draft vessels transit the Benicia-Martinez Railroad Bridge region during periods of reduced visibility. The proposed change to the Pinole Shoal Channel would keep smaller vessels out of the Pinole Shoal Channel but there is currently enough deep water just south of the channel for vessels of 15 to 19 feet draft to transit safely south of the channel. The proposed changes to the Southampton Shoal/Richmond Harbor and Oakland RNAs coincide to chart changes and waterway practices that are already in effect.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities because the proposed anchorage regulations are only aligning the RNAs with already charted navigational boundaries. Any such small entities such as fishing boats and recreational boaters transiting, anchoring or loitering in areas already charted in the RNAs are already required under the COLREGS to avoid impeding the passage of large ships. At all other times when large vessels are not transiting the waters specified in this proposed rule small entities are authorized to use the waterways in any manner in accordance with other standing regulations.

If you think that your business, organization, or governmental jurisdiction qualifies as a small entity and that these rules would have a significant economic impact on it, please submit a comment (see ADDRESSES) explaining why you think it qualifies and how and to what degree these rules would economically affect it.

Assistance for Small Entities

Under section 213(a) of the Small Business Regulatory Enforcement Fairness Act of 1996 (Public Law 104-121), we want to assist small entities in understanding this proposed rule so that they can better evaluate its effects on them and participate in the rulemakings. If this proposed rule would affect your small business, organization, or governmental jurisdiction and you have questions concerning its provisions or options for compliance, please contact LTJG Michael Boyes, District Eleven Marine Safety Division, Waterways Management Section, at (510) 437-2940.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditures, we do discuss the effects of this rule elsewhere in this preamble.

Taking of Private Property

This proposed rule would not affect a taking of private property or otherwise have taking implications under Executive Order 12630, Governmental Actions and Interference with Constitutionally Protected Property Rights.

Civil Justice Reform

This proposed rule meet applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this proposed rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation because we are changing a regulated navigation area.

A draft “Environmental Analysis Check List” and a draft “Categorical Exclusion Determination” are available in the docket where indicated under ADDRESSES. Comments on this section will be considered before we make the final decision on whether the rule should be categorically excluded from further environmental review.

List of Subjects in 33 CFR Part 165

Harbors, Marine safety, Navigation (water), Reporting and Recordkeeping Requirements, Security Measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C Chapter 701; 50 U.S.C. 191, 195; 33 CFR 1.05-1(g), 6.04-1, 6.04-6, 160.5; Pub. L. 107-295, 116 Stat. 2064; Department of Homeland Security Delegation No. 0170.1.

2. Amend § 165.1181 by revising paragraphs (c)(1)(ii)(C)(3), (c)(5), (c)(6)(ii), (c)(7), (e)(1)(ii)(E), (e)(2)(i) and (ii), and (e)(3) to read as follows:

§ 165.1181 San Francisco Bay Region, California—regulated navigation area.

* * * * *

(c) * * *

(1) * * *

(ii) * * *

(C) * * *

(3) Deep Water (two-way) Traffic Lane: Bounded by the Central Bay precautionary area and the Golden Gate precautionary area, between the Deep Water Traffic Lane separation zone and a line connecting the following coordinates, beginning at:

* * * * *

(5) Benicia-Martinez Railroad Drawbridge Regulated Navigation Area (RNA). The following is a regulated navigation area—The waters bounded by the following longitude lines:

(i) 122°13′31″ W (coinciding with the charted location of the Carquinez Bridge)

(ii) 121°53′17″ W (coinciding with the charted location of New York Point)

Datum: NAD 83

(6) * * *

(ii) The waters bounded by a line connecting the following coordinates, beginning at:

37°54′28″ N, 122°23′36″ W; thence to

37°54′20″ N, 122°23′38″ W; thence to

37°54′23″ N, 122°24′02″ W; thence to

37°54′57″ N, 122°24′51″ W; thence to

37°55′05″ N, 122°25′02″ W; thence to

37°54′57″ N, 122°25′22″ W; thence to

37°53′26″ N, 122°25′03″ W; thence to

37°53′24″ N, 122°25′13″ W; thence to

37°55′30″ N, 122°25′35″ W; thence to

37°55′40″ N, 122°25′10″ W; thence to

37°54′54″ N, 122°24′30″ W; thence to

37°54′30″ N, 122°24′00″ W; thence returning to the point of beginning.

Datum: NAD 83

(7) Oakland Harbor RNA. The following is a regulated navigation area—The waters bounded by a line connecting the following coordinates, beginning at:

37°48′40″ N, 122°19′58″ W; thence to

37°48′50″ N, 122°20′02″ W; thence to

37°48′29″ N, 122°20′39″ W; thence to

37°48′13″ N, 122°21′26″ W; thence to

37°48′10″ N, 122°21′39″ W; thence to

37°48′20″ N, 122°22′12″ W; thence to

37°47′36″ N, 122°21′50″ W; thence to

37°47′52″ N, 122°21′40″ W; thence to

37°48′03″ N, 122°21′00″ W; thence to

37°47′48″ N, 122°19′46″ W; thence to

37°47′55″ N, 122°19′43″ W; thence returning along the shoreline to the point of the beginning.

Datum: NAD 83

* * * * *

(e) * * *

(1) * * *

(ii) * * *

(E) so far as practicable keep clear of the Central Bay Separation Zone and the Deep Water Traffic Lane Separation Zone;

* * * * *

(2) * * *

(i) A vessel less than 1600 gross tons or a tug with a tow of less than 1600 gross tons is not permitted within this RNA.

(ii) A power-driven vessel of 1600 or more gross tons or a tug with a tow of 1600 or more gross tons shall not enter Pinole Shoal Channel RNA when another power-driven vessel of 1600 or more gross tons or tug with a tow of 1600 or more gross tons is navigating therein if such entry would result in meeting, crossing, or overtaking the other vessel, when either vessel is:

(A) Carrying certain dangerous cargoes (as denoted in § 160.203 of this subchapter);

(B) Carrying bulk petroleum products; or

(C) A tank vessel in ballast.

* * * * *

(3) Benicia-Martinez Railroad Drawbridge Regulated Navigation Area (RNA):

(i) Eastbound vessels:

(A) The master, pilot, or person directing the movement of a power-driven vessel of 1600 or more gross tons or a tug with a tow of 1600 or more gross tons traveling eastbound and intending to transit under the lift span (centered at coordinates 38°02:18″ N, 122°07:17″ W) of the railroad bridge across Carquinez Strait at mile 7.0 shall, immediately after entering the RNA, determine whether the visibility around the lift span is 1/2 nautical mile or greater.

(B) If the visibility is less than 1/2 nautical mile, or subsequently becomes less than 1/2 nautical mile, the vessel shall not transit under the lift span.

(ii) Westbound vessels:

(A) The master, pilot, or person directing the movement of a power-driven vessel of 1600 or more gross tons or a tug with a tow of 1600 or more gross tons traveling westbound and intending to transit under the lift span (centered at coordinates 38°02:18″ N, 122°07′17″ W) of the railroad bridge across Carquinez Strait at mile 7.0 shall, immediately after entering the RNA determine whether the visibility around the lift span is ½ nautical mile or greater.

(B) If the visibility is less than ½ nautical mile, the vessel shall not pass beyond longitude line 121°55′19″ W (coinciding with the charted position of the westernmost end of Mallard Island) until the visibility improves to greater than ½ nautical mile around the lift span.

(C) If after entering the RNA visibility around the lift span subsequently becomes less than ½ nautical mile, the master, pilot, or person directing the movement of the vessel either shall not transit under the lift span or shall request a deviation from the requirements of the RNA as prescribed in paragraph (b) of this section.

(D) Vessels that are moored or anchored within the RNA with the intent to transit under the lift span shall remain moored or anchored until visibility around the lift span becomes greater than ½ nautical mile.

* * * * *

Dated: August 25, 2003.
Kevin J. Eldridge,
Rear Admiral, Coast Guard, Commander, Eleventh Coast Guard District.

[FR Doc. 03-23414 Filed 9-17-03; 8:45 am]

BILLING CODE 4910-15-P